DEPARTMENT OF THE INTERIOR

Bureau of Land Management

[(OR-958-6320-ET; HAG01-0116; (OR-20221A))]

Public Land Order No. 7497; Partial Revocation of Executive Order Dated February 25, 1919; Oregon

AGENCY: Bureau of Land Management, Interior.

ACTION: Public land order.

SUMMARY: This order partially revokes an Executive Order insofar as it affects 240 acres of lands withdrawn for Bureau of Land Management Public Water Reserve No. 61. This revocation is in aid of the exchange legislated by the Steens Mountain Cooperative Management and Protection Act of 2000, Public Law 106-399. The lands have been open to metalliferous mining and mineral leasing under the terms of the withdrawal, but are temporarily closed to surface entry and all mining due to the pending legislated land exchange.

EFFECTIVE DATE: September 5, 2001.

FOR FURTHER INFORMATION CONTACT: Allison O'Brien, BLM Oregon/Washington State Office, P.O. Box 2965, Portland, Oregon 97208-2965, 503-952-6171.

SUPPLEMENTARY INFORMATION: By virtue of the authority vested in the Secretary of the Interior by Section 204 of the Federal Land Policy and Management Act of 1976, 43 U.S.C. 1714 (1994), it is ordered as follows:

1. The Executive Order dated February 25, 1919, which established Public Water Reserve No. 61, is hereby revoked insofar as it affects the following described lands:

Willamette Meridian

T. 35 S., R. 32¾ E.,

Sec. 9, NW¼SW¼;

Sec. 17, SW¼SW¼;

Sec. 18, S½SE¼;

Sec. 20, NE¼NW¼;

Sec. 28, NE¼NW¼.

The areas described aggregate 240 acres in Harney County.

2. The above-described lands are hereby made available for exchange under Section 206 of the Federal Land Policy and Management Act of 1976, 43 U.S.C. 1716 (1994).

Dated: August 15, 2001.
J. Steven Griles,
Deputy Secretary.

[FR Doc. 01-22180 Filed 9-4-01; 8:45 am]

BILLING CODE 4310-33-P